DEPARTMENT OF COMMERCE

[Docket No.: 0909181310-91315-01]

Privacy Act Altered System of Records

AGENCY: Department of Commerce, National Institute of Standards and Technology (NIST).

ACTION: Notice; COMMERCE/NIST-5, Nuclear Reactor Operator Licensees File.

SUMMARY: The Department of Commerce (Commerce) publishes this notice to announce the effective date of a Privacy Act System of Records notice entitled COMMERCE/NIST-5, Nuclear Reactor Operator Licensees File.

DATES: The system of records becomes effective on October 1, 2009.

ADDRESSES: For a copy of the system of records please mail requests to Catherine S. Fletcher, National Institute of Standards and Technology, 100 Bureau Drive—Stop 1710, Gaithersburg, MD 20899-1710.

FOR FURTHER INFORMATION CONTACT: Catherine S. Fletcher, National Institute of Standards and Technology, 100 Bureau Drive—Stop 1710, Gaithersburg, MD 20899-1710.

SUPPLEMENTARY INFORMATION: On June 1, 2007, the National Institute of Standards and Technology published and requested comments on a proposed Privacy Act System of Records notice entitled COMMERCE/NIST-5, Nuclear Reactor Operator Licensees File. No comments were received in response to the request for comments. By this notice, the National Institute of Standards and Technology is adopting the proposed system as final without changes effective October 1, 2009.

Dated: September 25, 2009.
Brenda Dolan,
U.S. Department of Commerce, Freedom of Information/Privacy Act Officer.

[FR Doc. E9-23670 Filed 9-30-09; 8:45 am]

BILLING CODE 3510-13-P